DEPARTMENT OF HEALTH AND HUMAN SERVICES

National Institutes of Health

National Institute on Aging; Amended Notice of Meeting

Notice is hereby given of a change in the meeting of the National Institute on Aging Special Emphasis Panel, July 10, 2008, 12 p.m. to July 10, 2008, 4 p.m., National Institute on Aging, Gateway Building, 7201 Wisconsin Avenue, Room 2C212, Bethesda, MD 20892 which was published in the Federal Register on May 29, 2008, 73 FR 30957-30958.

Meeting will begin at 10 a.m. The meeting is closed to the public.

Dated: June 6, 2008.
Anna Snouffer,
Acting Director, Office of Federal Advisory Committee Policy.

[FR Doc. E8-13240 Filed 6-16-08; 8:45 am]

BILLING CODE 4140-01-M